ENVIRONMENTAL PROTECTION AGENCY

[EPA-HQ-OECA-2012-0677; FRL-9945-26-OEI]

Information Collection Request Submitted to OMB for Review and Approval; Comment Request; NSPS for Storage Vessels for Petroleum Liquids for Which Construction, Reconstruction or Modification Commenced After June 11, 1973 and Prior to May 19, 1978 (Renewal)

AGENCY: Environmental Protection Agency (EPA).

ACTION: Notice.

SUMMARY: The Environmental Protection Agency has submitted an information collection request (ICR), “NSPS for Storage Vessels for Petroleum Liquids for Which Construction, Reconstruction or Modification Commenced After June 11, 1973 and Prior to May 19, 1978 (40 CFR part 60, subpart K) (Renewal)” (EPA ICR No. 1797.07, OMB Control No. 2060-0442), to the Office of Management and Budget (OMB) for review and approval in accordance with the Paperwork Reduction Act (44 U.S.C. 3501 et seq.). This is a proposed extension of the ICR, which is currently approved through April 30 2016. Public comments were requested previously via the Federal Register (80 FR 32116) on June 5, 2015 during a 60-day comment period. This notice allows for an additional 30 days for public comments. A fuller description of the ICR is given below, including its estimated burden and cost to the public. An Agency may not conduct or sponsor, and a person is not required to respond to, a collection of information unless it displays a currently valid OMB control number.

DATES: Additional comments may be submitted on or before May 31, 2016.

ADDRESSES: Submit your comments, referencing Docket ID Number EPA-HQ-OECA-2012-0677, to: (1) EPA online using www.regulations.gov (our preferred method), or by email to docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit: http://www.epa.gov/dockets.

Abstract: Owners and operators of affected facilities are required to comply with reporting and record keeping requirements for the general provisions of 40 CFR part 60, subpart A, as well as for the specific requirements at 40 CFR part 60, subpart K. This includes submitting initial notifications and maintaining records of the occurrence and duration of any startup, shutdown, or malfunction in the operation of an affected facility, or any period during which the monitoring system is inoperative. These reports are used by EPA to determine compliance with the standards.

Form Numbers: None.

Respondents/affected entities: Facilities with petroleum liquids storage vessels.

Respondent's obligation to respond: Mandatory (40 CFR part 60 Subpart K).

Estimated number of respondents: 69 (total).

Frequency of response: Initially and occasionally.

Total estimated burden: 321 hours (per year). Burden is defined at 5 CFR 1320.3(b).

Total estimated cost: $32,200 (per year), which includes $0 for both annualized capital/startup and operation & maintenance costs.

Changes in the Estimates: There is a substantial decrease in burden from the previous ICR due to a decrease in the number of sources. Many storage vessels have been modified and become subject to Subpart Kb. Based on information obtained from the Agency's 2011 Petroleum Refinery ICR, the number of facilities subject to this regulation has decreased from 220 to 69. The update in source count results in a decrease in the labor hours, labor costs, and number of responses.

Courtney Kerwin,
Acting Director, Collection Strategies Division.

[FR Doc. 2016-09889 Filed 4-27-16; 8:45 am]

BILLING CODE 6560-50-P